DEFENSE NUCLEAR FACILITIES SAFETY BOARD

Sunshine Act Notice

AGENCY: Defense Nuclear Facilities Safety Board.

ACTION: Notice of Public Hearing.

SUMMARY: Pursuant to the provisions of the Government in the Sunshine Act (5 U.S.C. 552b), notice is hereby given of the Defense Nuclear Facilities Safety Board's (Board) public hearing described below. The Board invites any interested persons or groups to present any comments, technical information, or data concerning safety issues related to the matters to be considered.

DATES: Session I: 5:00 p.m.-6:30 p.m., Session II: 6:45 p.m.-9:00 p.m., March 22, 2016.

Place: Santa Fe Community Convention Center, 201 West Marcy Street, Santa Fe, New Mexico 87501. Parking will be available at no cost.

Status: Open. The Board has determined that an open hearing furthers the public interests underlying both the Government in the Sunshine Act and the Board's enabling legislation.

Matters to be Considered: In this public hearing, the Board wishes to gather information regarding the hazards to the public and workers posed by the management of transuranic (TRU) waste at Los Alamos National Laboratory (LANL) as well as the Department of Energy's (DOE) plans to address those hazards. The Board will also examine DOE's actions taken or planned to resolve known inadequacies in the current safety basis of the various facilities that manage or store TRU waste at LANL, and actions to improve TRU waste management at LANL in response to the challenges caused by the Waste Isolation Pilot Plant (WIPP) accident and the associated investigation findings.

A senior Board technical staff employee will present information to the Board regarding TRU waste management at LANL, including safety issues identified at Area G including issues with inappropriately remediated nitrate salt-bearing waste, corrective actions resulting from the WIPP accident, and federal oversight. The Board will then receive testimony from senior officials from DOE Headquarters and National Nuclear Security Administration (NNSA) Headquarters regarding federal oversight of LANL transuranic waste management. After a brief recess, the Board will receive testimony from DOE and NNSA Los Alamos Field Office leadership as well as LANL leadership regarding technical resolution of safety issues. Following the public comment period, the hearing will conclude with statements from senior officials from DOE and NNSA as well as the Board Chairman. The public hearing portion of this proceeding is authorized by 42 U.S.C. 2286b.

FOR MORE INFORMATION CONTACT: Mark Welch, General Manager, Defense Nuclear Facilities Safety Board, 625 Indiana Avenue NW., Suite 700, Washington, DC 20004-2901, (800) 788-4016.

SUPPLEMENTARY INFORMATION: Public participation in the hearing is invited during the public comment period of the agenda. The Board is setting aside time for presentations and comments from the public. Persons interested in speaking during the public comment period are encouraged to pre-register by submitting a request in writing to the Board's address listed above or by telephone to the Office of the General Counsel at (202) 694-7062 prior to close of business on March 18, 2016. The Board asks that commenters describe the nature and scope of their oral presentations. Those who pre-register will be scheduled to speak first. Individual oral comments may be limited by the time available, depending on the number of persons who register. At the beginning of the hearing, the Board will post a list of speakers at the entrance to the hearing room. Anyone who wishes to comment or provide technical information or data may do so in writing, either in lieu of, or in addition to, making an oral presentation. The Board Members may question presenters to the extent deemed appropriate. Public participation in the hearing will be subject to the participation criteria posted on the Board's Web site with the hearing agenda. Written comments and documents will be accepted at the hearing or may be sent to the Board's Washington, DC, office. The Board will hold the hearing record open until April 22, 2016, for the receipt of additional materials.

The hearing will be presented live through Internet video streaming. A link to the presentation will be available on the Board's Web site (www.dnfsb.gov). A transcript of the hearing, along with a DVD video recording, will be made available by the Board for inspection and viewing by the public at the Board's Washington office and at the Department of Energy's (DOE) public reading room at the DOE Federal Building, 1000 Independence Avenue SW., Washington, DC 20585. The Board specifically reserves its right to further schedule and otherwise regulate the course of the hearing, to recess, reconvene, postpone, or adjourn the hearing, conduct further reviews, and otherwise exercise its authority under the Atomic Energy Act of 1954, as amended.

Dated: March 1, 2016.
Joyce L. Connery,
Chairman.

[FR Doc. 2016-04928 Filed 3-2-16; 11:15 am]

BILLING CODE 3670-01-P